INTERNATIONAL TRADE COMMISSION

[Inv. No. 337-TA-509]

In the Matter of Certain Personal Computers, Server Computers, and Components thereof; Notice of Commission Decision Not To Review an Initial Determination Granting Joint Motion for Termination of Investigation Based on Settlement Agreement

AGENCY: U.S. International Trade Commission.

ACTION: Notice.

SUMMARY: Notice is hereby given that the U.S. International Trade Commission has determined not to review the presiding administrative law judge's (“ALJ's”) initial determination (“ID”) granting a joint motion to terminate the above-captioned investigation on the basis of a settlement agreement.

FOR FURTHER INFORMATION CONTACT: Steven Crabb, Esq. Office of the General Counsel, U.S. International Trade Commission, 500 E Street, SW., Washington, DC 20436, telephone (202) 708-5432. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: This investigation was instituted by the Commission on June 7, 2004, based on a complaint filed by Hewlett-Packard Company of Palo Alto, California (“HP”) under section 337 of the Tariff Act of 1930, as amended, 19 U.S.C. 1337.69 FR 31844. The complainant alleged violations of section 337 in the importation and sale of certain personal computers, monitors, and components thereof, by reason of infringement of seven U.S. patents. HP named Gateway, Inc. of Poway, California (“Gateway”) as the sole respondent.

On August 8, 2005, the ALJ issued a final ID on violation and his recommended determinations on remedy and bonding. Claim 1 of U.S. Patent No. 5,737,604, claims 1, 3-4, 6-8, 18, 20-21, 23-25, 35, 37, 38, and 40-42 of U.S. Patent No. 6,138,184 (“the ‘184 patent”), claim 9 of U.S. Patent No. 5,892,976 (“ ‘976 patent”), and claim 1 of U.S. Patent No. 6,085,318 (“the ‘318 patent”) remained at issue in this investigation when the ALJ issued his final ID. On October 20, 2005, the Commission determined to review the final ID in its entirety. 70 FR 61157 (October 20, 2005).

On December 8, 2005, the Commission issued notice that it had determined to reverse the ALJ's finding of literal infringement with respect to claims 7, 24, and 41 of the ‘184 patent and claim 9 of the ‘976 patent, and to remand the investigation to the ALJ for additional findings concerning infringement under the doctrine of equivalents and a determination of whether the technical prong of the domestic industry requirement of section 337 had been met for the ‘184 and ‘976 patents. The Commission also determined to vacate that portion of the ID which concerned infringement of claim 1 of the ‘318 patent under the doctrine of equivalents. The Commission determined to affirm the remainder of the ID.

On April 28, 2006, the ALJ issued an ID (Order No. 49) extending the target date for completion of the investigation to August 21, 2006. The Commission determined not to review Order No. 49.

On May 25, 2006, the private parties filed a joint motion to terminate the investigation on the basis of a settlement agreement. On June 13, 2006, the Commission investigative attorney riled a response in support of the parties' joint motion to terminate the investigation.

On June 20, 2006, the ALJ issued an ID (Order No. 50) granting the joint motion to terminate the investigation on the basis of the settlement agreement. No party filed a petition to review the subject ID.

The Commission has determined not to review the ALJ's ID. Accordingly, the above-referenced investigation is hereby terminated.

The authority for the Commission's determination is contained in section 337 of the Tariff Act of 1930, as amended (19 U.S.C. 1337), and in section 210.21(b), and 210.42 of the Commission's Rules of Practice and Procedure (19 CFR 210.21, 210.42).

By order of the Commission.
Issued: July 7, 2006.
Marilyn R. Abbott,
Secretary to the Commission.

[FR Doc. 06-6183 Filed 7-12-06; 8:45am]

BILLING CODE 7020-02-M